ENVIRONMENTAL PROTECTION AGENCY

[FRL-6919-2]

Science Advisory Board; Notification of Public Advisory Committee Meetings

Pursuant to the Federal Advisory Committee Act, Public Law 92-463, notice is hereby given of two meetings of the Drinking Water Committee (DWC) of the US EPA Science Advisory Board on the dates and times noted below. All times noted are Eastern Daylight Time. All meetings are open to the public, however, seating is limited and available on a first come basis. Important Notice: Documents that are the subject of SAB reviews are normally available from the originating EPA office and are not available from the SAB Office—information concerning availability of documents from the relevant Program Office is included below.

Drinking Water Committee (DWC) Meetings—January 11-12, 2001 and February 28, 2001

The Drinking Water Committee of the US EPA Science Advisory Board (SAB), will meet on January 11 and 12, 2001 in Room 120/126 of the Andrew W. Breidenbach Environmental Research Center, 26 West Martin Luther King Drive, Cincinnati, OH 45268; telephone (513) 569-7772. The meeting will begin at 9:00 a.m. on January 11 and adjourn no later than 3:00 p.m. on January 12, 2001.

A followup meeting is scheduled for February 28, 2001 to address any remaining issues that might arise as a result of the January 11-12, 2001 discussions. This meeting will be coordinated through a conference call connection in room 6013 Ariel Rios North (6th Floor), U.S. Environmental Protection Agency, 1200 Pennsylvania Avenue NW., Washington, DC. The public is strongly encouraged to attend the meeting through a telephonic link, but may attend physically if arrangements are made with the SAB staff by noon Friday, February 23. Additional instructions about how to participate in the conference call can be obtained by calling Ms. Dorothy Clark at (202) 564-4537, or via e-mail at: clark.dorothy@epa.gov by noon Friday, February 23.

Purpose of the Meeting—The Drinking Water Committee will continue its review of EPA's draft research plan in support of the Safe Drinking Water Act's Contaminant Candidate Listing (CCL) program.

Background

Research Plan for Candidate Contaminant Listing (CCL)—The Safe Drinking Water Act (SDWA), as amended in 1996, requires the EPA to establish a list of unregulated microbiological and chemical contaminants to aid in priority setting for the Agency's drinking water program. A new list must be published every five years. The first Contaminant Candidate List (CCL1) was first proposed by EPA in 1997 and was then finalized in 1998, following extensive consultation with stakeholders.

The Agency must select five or more contaminants from the CCL1 and determine, by August 2001, whether they should be regulated. To support these decisions, the Agency will have to evaluate when and where these contaminants occur, the extent of exposure and risk to public health, and determine if cost effective control methods are available.

EPA has sorted CCL1 contaminants into categories depending upon whether they need additional research (Research or Occurrence Priorities categories) or have sufficient data for the evaluation of exposure and risk to public health, and therefore enough data to support a drinking water standard (Regulatory Determination Priorities category). The contaminants considered for selection and regulatory determination by August 2001 will be drawn from the Regulatory Determination category and are not duplicated under the Research or Occurrence Priorities categories.

A Research Plan has been prepared to describe the nature, timing and priority of research needed in order to meet the CCL research information needs of the Agency. The plan focuses on contaminants that are on CCL1. Nevertheless, it is important for some research to be conducted on emerging pathogens and chemicals to ensure that any future CCL includes contaminants that are of potential public health concern. The SAB has been asked to review this plan.

The DWC began its discussion of the CCL Research Plan at its meeting on August 8-9, 2000 (for further information, see 65 Federal Register 44051-44053). The charge questions were discussed by panelists and as a result of the discussions the Committee decided to prepare an Advisory to EPA noting its preliminary advice and the need for additional information [An SAB Advisory on EPA's Draft Contaminant Candidate List (CCL) Research Plan; EPA-SAB-DWC-ADV-00-007—copies are available at www.epa.gov/sab under the REPORTS heading]. The discussion at the January 11-12, 2001 DWC meeting will focus on the revised Research Plan and begin its drafting of the final report to the Administrator.

Charge to the Committee—EPA asks whether: (i) it considered the appropriate existing information about CCL contaminants in formulating the Plan; (ii) it identified the key science questions; (iii) they identified appropriate research by subject and scope to address the identified science questions; (iv) the relative priorities and timetable proposed for the planned research are appropriate; and (v) the process used to identify data gaps and prioritize research needs is sound.

Availability of Review Materials—Additional information on the materials provided to the Committee for its CCL Research Plan review can be obtained by contacting Dr. Robert Clark, US EPA, National Risk Management Research Laboratory, Cincinnati, OH by telephone at (513) 569-7201 or by e-mail at clark.robertm@epa.gov.

For Further Information—Any member of the public wishing further information concerning this meeting or wishing to submit brief oral comments (10 minutes or less) must contact Thomas O. Miller, Designated Federal Officer, Science Advisory Board (1400A), U.S. Environmental Protection Agency, 1200 Pennsylvania Avenue, NW, Washington, DC 20460; telephone (202) 564-4558; FAX (202) 501-0582; or via e-mail at miller.tom@epa.gov. Requests for oral comments must be in writing (e-mail, fax or mail) and received by Mr. Miller no later than noon Eastern Time on August 2, 2000.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information— Additional information concerning the Science Advisory Board, its structure, function, and composition, may be found on the SAB Website (http://www.epa.gov/sab) and in The FY1999 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Mr. Miller at least five business days prior to the meeting so that appropriate arrangements can be made.

Dated: December 8, 2000.
Donald Barnes,
Staff Director, Science Advisory Board.

[FR Doc. 00-32398 Filed 12-19-00; 8:45 am]

BILLING CODE 6560-50-P